ENVIRONMENTAL PROTECTION AGENCY

[OPPTS-00301; FRL-6749-9]

Forum on State and Tribal Toxics Action (FOSTTA); Open Meetings; Notice of Public Meeting

AGENCY: Environmental Protection Agency (EPA).

ACTION: Notice of public meeting.

SUMMARY: Two components (Chemical Management, and Tribal Affairs) of the Forum on State and Tribal Toxics Action (FOSTTA) will hold meetings October 23-24, 2000. This notice announces the location and times for the meetings and sets forth some tentative agenda topics. The National Conference of State Legislatures (NCSL) and the Environmental Protection Agency's (EPA) Office of Pollution Prevention and Toxics (OPPT) are co-sponsoring the meetings. As part of a cooperative agreement, NCSL facilitates ongoing efforts of the States and Tribes to identify, discuss, and address toxics-related issues, and to continue the dialogue on how Federal environmental programs can best be implemented.

DATES: The two components will meet concurrently October 23, 2000, from 8 a.m. to 5 p.m. and October 24, 2000, from 8 a.m. to noon. A plenary session is being planned for all the participants on Monday, October 24, 2000, from 8 a.m. to 9:30 a.m.

ADDRESSES: The meetings will be held at the Holiday Inn, Old Town, 480 King Street, Alexandria, VA, 22314. The hotel is about 12 blocks from the King Street Metro Station.

FOR FURTHER INFORMATION CONTACT: For general information contact: Barbara Cunningham, Acting Director, Environmental Assistance Division, Office of Pollution Prevention and Toxics (7408), Environmental Protection Agency, 1200 Pennsylvania Ave., NW., Washington, DC 20460; telephone number: (202) 260-1761.

For technical information contact: George Hagevik, National Conference of State Legislatures, 1560 Broadway, Suite 700, Denver, CO 80202; telephone: (303) 839-0273 and FAX: (303) 863-8003; e-mail: george.hagevik@ncsl.org or Darlene Harrod, Environmental Assistance Division (7408), OPPT, Environmental Protection Agency, 1200 Pennsylvania Ave., NW., Washington, DC 20460; telephone: (202) 260-6904 and fax: (202) 260-2219; e-mail: harrod.darlene@epamail.epa.gov.

SUPPLEMENTARY INFORMATION:

I. Does this Notice Apply to Me?

This action is directed to the public in general. This action may, however, be of interest to all parties interested in FOSTTA and hearing more about the perspectives of the States and Tribes on EPA programs and the information exchange regarding important issues related to human health and environmental exposure to toxics. Since other entities may also be interested, the Agency has not attempted to describe all the specific entities that may be affected by this action. However, in the interest of time and efficiency, the meetings are structured to provide maximum opportunity for State, Tribal, and EPA participants to discuss items on the predetermined agenda. At the discretion of the chair, an effort will be made to accommodate participation by observers attending the proceedings. If you have any questions regarding the applicability of this action to a particular entity, consult the technical people listed under FOR FURTHER INFORMATION CONTACT.

II. How Can I Get Additional Information, Including Copies of this Document or Other Related Documents?

1. Electronically. You may obtain electronic copies of this document, and certain other related documents that might be available electronically, from the NCSL Web site at http://www.ncsl.org/programs/esnr/fostta/fostta.htm. To access this document on the EPA Internet Home Page go to http://www.epa.gov and select “Laws and Regulations” “Regulations and Proposed Rules” and then look up the entry for this document under the “Federal Register—Environmental Documents.” You can also go directly to the Federal Register listings at http://www.epa.gov/fedrgstr/FOSTTA.

2. Facsimile. Notify the contacts listed above if you would like any of the documents sent to you via fax.

III. Purpose of Meeting:

Tentative Agenda Items Identified by NCSL, the States, and the Tribes:

1. Subsistence food panel discussion

2. OPPTS Tribal strategy

3. Education and exposure models

4. Other topics as appropriate.

IV. How Can I Request To Participate in this Meeting?

You may submit a request to participate in this meeting in the mail or electronically to the names under the FOR FURTHER INFORMATION section. Do not submit any information in your request that is considered Confidential Business Information. Your request must be received by EPA on or before October 20, 2000.

List of Subjects

Environmental protection.

Dated: October 5, 2000.
Clarence O. Lewis, III,
Acting Director, Environmental Assistance Division, Office of Pollution Prevention and Toxics.

[FR Doc. 00-26119 Filed 10-10-00; 8:45 pm]

BILLING CODE 6560-50-S